NUCLEAR REGULATORY COMMISSION

Molycorp, Inc.; Designation of Presiding Officer

[Docket No. 40-8778-MLA-2; ASLBP No. 00-775-03-MLA]

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR § 2.1205(h), the Presiding Officer will conduct an adjudicatory hearing in the following proceeding:

Molycorp, Inc., Washington, Pennsylvania

This proceeding, which will be conducted pursuant to 10 CFR Part 2, subpart L, of the Commission's Regulations, “Informal Hearing Procedures for Adjudications in Materials and Operator Licensing Proceedings,” concerns a request for hearing submitted by Canton Township, Pennsylvania. The request was filed in response to a notice of consideration by the Nuclear Regulatory Commission staff of a request by Molycorp, Inc., to amend its 10 CFR part 40 source material license to authorize decommissioning of its former processing facility in Washington, Pennsylvania. The notice of consideration of the application and opportunity for hearing was published in the Federal Register at 64 FR 62,227 (Nov. 16, 1999).

The Presiding Officer in this proceeding is Administrative Judge Charles Bechhoefer. Pursuant to the provisions of 10 CFR 2.722, 2.1209, Administrative Judge Richard F. Cole has been appointed to assist the Presiding Officer in taking evidence and in preparing a suitable record for review.

All correspondence, documents, and other materials shall be filed with Judge Bechhoefer and Judge Cole in accordance with 10 CFR 2.1203. Their addresses are:

Administrative Judge Charles Bechhoefer, Presiding Officer, Atomic Safety and Licensing Board Panel, U.S. Nuclear Regulatory Commission, Washington, D.C. 20555-0001

Dr. Richard F. Cole, Special Assistant, Atomic Safety and Licensing Board Panel, U.S. Nuclear Regulatory Commission, Washington, D.C. 20555-0001

This designation of presiding officer is issued pursuant to the authority of the Chief Administrative Judge of the Atomic Safety and Licensing Board Panel.

Issued at Rockville, Maryland, this 13th day of January 2000.
G. Paul Bollwerk, III,
Chief Administrative Judge, Atomic Safety and Licensing Board Panel.

[FR Doc. 00-1299 Filed 1-19-00; 8:45 am]

BILLING CODE 7590-01-P